DEPARTMENT OF COMMERCE

International Trade Administration

[A-201-820]

Fresh Tomatoes From Mexico: Final Clarification of the Scope of the Antidumping Duty Order

AGENCY: Enforcement and Compliance, International Trade Administration, Department of Commerce.

SUMMARY: On December 22, 2025, the U.S. Department of Commerce (Commerce) issued a proposed clarification of the scope of the antidumping duty (AD) order on fresh tomatoes from Mexico. Based on comments from interested parties, Commerce has further clarified the scope of this order.

DATES: Applicable July 14, 2025.

FOR FURTHER INFORMATION CONTACT: Thomas Schauer, Enforcement and Compliance, International Trade Administration, U.S. Department of Commerce, 1401 Constitution Avenue NW, Washington, DC 20230; telephone: (202) 482-0410.

SUPPLEMENTARY INFORMATION:

Background

Section 351.225 of Commerce's regulations governs Commerce's scope rulings. Commerce may clarify the scope of an order in accordance with 19 CFR 351.225(q). On December 22, 2025, Commerce issued the Proposed Scope Clarification ¹ to provide notice that it intends to clarify the scope of the Order by adding certain certification requirements for fresh tomatoes imported for processing and expressly excluded from the scope of the Order.² Interested parties were invited to comment on the intended clarification.

¹ See Memorandum, “Intent to Clarify Scope of the Order,” dated December 22, 2025 (Proposed Scope Clarification).

² See Fresh Tomatoes from Mexico: Termination of Suspension Agreement, Rescission of Administrative Reviews, and Imposition of an Antidumping Duty Order, 90 FR 33363, (July 17, 2025) (Order).

Comments on the Proposed Scope Clarification

Commerce received comments from the Florida Tomato Exchange (FTE) and a rebuttal submission from the Fresh Produce Association of the Americas (FPAA). No other parties commented on the Proposed Scope Clarification.

FTE's Comments

• Commerce should refine its proposed language because it is susceptible to more than one interpretation, and Commerce should include an additional certification requirement because the proposed U.S. Department of Agriculture (USDA) form is inadequate to fulfill the purpose of the proposed change.

• Consistent with the requirements of the 2019 suspension agreement, Commerce should require an additional certification specific to this proceeding that remedies the deficiencies of USDA Form SC-6.

FPAA's Rebuttal

• FPAA concurs with the petitioner's proposed changes to Commerce's proposed clarifying language regarding tomatoes for processing.

• To the extent that Commerce is modifying the scope definition to clarify the need for a Form SC-6 to be submitted, Commerce should also coordinate and work with U.S. Customs and Border Protection (CBP) to ensure that CBP's Automated Customs Environment (ACE) system is also modified so that importers will have a way to comply with the additional scope requirements for imports of tomatoes for processing to also declare that they have an accompanying Form SC-6.

Final Scope Clarification

Commerce agrees with the petitioner and FPAA that there is ambiguity in the Proposed Scope Clarification and is adopting the petitioner's suggested changes. The Proposed Scope Clarification is intended to insert the certification requirements for entries of fresh tomatoes imported into the United States for processing and expressly excluded from the scope of the Order. This clarification is not intended to change the scope of the fresh tomatoes either covered by the Order or excluded from the Order but is merely intended to clarify and inform the public that entries of fresh tomatoes imported into the United States for processing must be accompanied by SC-6 ³ and the “Processing Tomatoes Certification Form.” ⁴

³ The sample of SC-6 is available at: https://www.ams.usda.gov/sites/default/files/media/SC6ImportersExemptCommodityForm.pdf.

⁴ The “Processing Tomatoes Certification Form” is available at the Enforcement and Compliance website at: https://www.trade.gov/fresh-tomatoes-forms.

Furthermore, with respect to the FPAA's request that Commerce work with CBP to modify the ACE system, Commerce will require that importers file the SC-6 and the Processing Tomatoes Certification Form to be uploaded into the ACE document imaging system at the time of filing an entry summary, as explained in the “Certification Requirements” section below.

Certification Requirements

Importers are required to complete and maintain the applicable certifications and retain all supporting documentation. As of the date of publication of this Federal Register notice, the importer certifications must be completed, signed, and dated by the time the entry summary is filed for the relevant entry.

The importer, or the importer's agent, must submit the importer's certifications at the time of entry summary by uploading these documents into the document imaging system (DIS) in ACE. Where the importer uses a broker to facilitate the entry process, the importer should obtain the entry summary number from the broker. Agents of the importer, such as brokers, however, are not permitted to certify on behalf of the importer. Consistent with CBP's procedures, importers shall identify certified entries by using importers' additional declaration (record 54) AD/CVD Certification Designation (type code 06) when filing entry summary.⁵ These certifications and declarations must be maintained by the importer and presented to CBP upon request and both the importer or importer's agent, as applicable, and the processor must maintain copies of these forms for five years. The claims made in the certifications and declarations and any supporting documentation are subject to verification by Commerce and/or CBP.

⁵ See Cargo System Messaging Service #59384253, dated February 12, 2024; see also Announcing an Importer's Additional Declaration in the Automated Commercial Environment Specific to Antidumping/Countervailing Duty Certifications, 89 FR 7372 (February 2, 2024).

Scope of the Order

The merchandise subject to the Order is fresh tomatoes from Mexico. For a complete description of the revised scope of the Order, see the appendix to this notice.

Notification to Interested Parties

This notice is issued and published in accordance with 19 CFR 351.225(q).

Dated: February 11, 2026.
Christopher Abbott,
Deputy Assistant Secretary for Policy and Negotiations, performing the non-exclusive functions and duties of the Assistant Secretary for Enforcement and Compliance.

Appendix

Scope of the Order

The merchandise subject to the Order is all fresh or chilled tomatoes (fresh tomatoes) which have Mexico as their origin, except for those tomatoes which are for processing. For purposes of the Order, processing is defined to include preserving by any commercial process, such as canning, dehydrating, drying, or the addition of chemical substances, or converting the tomato product into juices, sauces, or purees. Further, imports of fresh tomatoes for processing must be accompanied by an “Importer's Exempt Commodity Form” (SC-6) (within the meaning of 7 CFR 980.501(a)(2) and 980.212(i)) and must be accompanied by the “Processing Tomatoes Certification Form.” Fresh tomatoes that are imported for cutting up, not further processing (e.g., tomatoes used in the preparation of fresh salsa or salad bars) are covered by the Order, whether or not accompanied by an SC-6 form.

Commercially grown tomatoes, both for the fresh market and for processing, are classified as Lycopersicon esculentum. Important commercial varieties of fresh tomatoes include common round, cherry, grape, plum, greenhouse, and pear tomatoes, all of which are covered by the Order.

Tomatoes imported from Mexico covered by the Order are classified under the following subheading of the Harmonized Tariff Schedule of the United States (HTSUS), according to the season of importation: 0702. Although the HTSUS numbers are provided for convenience and customs purposes, the written description of the scope of the Order is dispositive.

[FR Doc. 2026-03195 Filed 2-17-26; 8:45 am]

BILLING CODE 3510-DS-P